DEPARTMENT OF TRANSPORTATION

Office of the Secretary

Notice of Applications for Certificates of Public Convenience and Necessity and Foreign Air Carrier Permits Filed Under Subpart B (Formerly Subpart Q) During the Week Ending November 13, 2010

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0279.

Date Filed: November 12, 2010.

Due Date for Answers, Conforming Applications, or Motion To Modify Scope: December 3, 2010.

Description: Application of Arik Air Limited requesting a foreign air carrier permit and exemption authority to provide scheduled air transportation of persons, property and mail between Nigeria and the United States.

Docket Number: DOT-OST-1996-1657.

Date Filed: November 12, 2010.

Due Date for Answers, Conforming Applications, or Motion To Modify Scope: December 3, 2010.

Description: Application of Alaska Central Express, Inc. (“Alaska Central”) requesting fitness determination and reissuance of its certificate of public convenience and necessity to the extent necessary to permit Alaska Central to conduct scheduled interstate passenger operations with aircraft having a maximum passenger capacity of less than 60 seats or a maximum payload capacity of no more than 18,000 pounds, and to reissue its certificate without the condition limiting its passenger authority to charter air transportation.

Renee V. Wright,
Program Manager, Docket Operations, Federal Register Liaison.

[FR Doc. 2010-31714 Filed 12-16-10; 8:45 am]

BILLING CODE 4910-9X-P